NUCLEAR REGULATORY COMMISSION

[NRC-2009-0485]

Development of NRC's Safety Culture Policy Statement: Cancellation of Public Workshops Scheduled for April 13-15, 2010, and October 27-28, 2010

AGENCY: Nuclear Regulatory Commission (NRC).

ACTION: Cancellation of public workshops tentatively scheduled for April 13-15, 2010, and October 27-28, 2010.

SUMMARY: On December 15, 2009, the NRC announced in a Federal Register Notice (FRN) (74 FR 66387) (ADAMS Number: ML100150141) its plans for holding a series of workshops to support an overarching goal of forging a consensus around the objectives, strategies, activities and measures that enhance safety culture for NRC-regulated activities. Specific plans for the workshops included the development of the safety culture common terminology effort comprised of: (1) Development of a common safety culture definition; and (2) development of high-level description/traits of areas important to safety culture. The series of workshops were designed to build upon each other, and to be used to develop these concepts for incorporation into the NRC's draft final policy statement. In addition, the information gathered at the workshop was to be considered when revising the NRC's oversight programs for NRC-regulated nuclear industries. The tentative dates planned for the public workshops were February 2-4, 2010, April 13-15, 2010, and October 27-28, 2010, at or near NRC headquarters in Rockville, MD. At the time the NRC issued the FRN (74 FR 66387), it was anticipated that three workshops would be needed to reach alignment on the safety culture common terminology effort.

The NRC held the first workshop on February 2-4, 2010. The goal of the workshop was to: (1) Obtain input regarding a high-level safety culture definition that could apply to all licensees/certificate holders; (2) obtain input regarding description/traits of safety culture that could apply to all licensees/certificate holders; and (3) receive comments on the draft safety culture policy statement that was published in the FRN for public comment until March 1, 2010 (74 FR 57525; 75 FR 1656;) (ADAMS Numbers: ML093240408 and ML100050288). The structure of this workshop was unique in that the NRC sought nominations of individuals (74 FR 66387) to represent interests from a large spectrum of licensees/certificate holders regulated by the NRC to participate in panel discussions on safety culture. Additionally, the NRC utilized an external steering committee (made up of various stakeholders) to help plan for the first workshop as well as encourage stakeholders to nominate individuals to be panel members and to participate in this effort. From those nominated, the NRC selected sixteen stakeholders to serve as panel members at the workshop. At the February 2-4, 2010, safety culture workshop, panel members, through discussions and frequent input provided by workshop attendees, developed and aligned on a single safety culture definition and a group of traits.

While the NRC anticipated that it might take three workshops for stakeholder representatives to develop and align on a common safety culture definition and a set of high-level description/traits of areas important to safety, this was accomplished during the February 2-4, 2010, workshop. Post-workshop discussions with the panel members and the external steering committee concluded that another workshop of this kind was not needed since the panel had reached alignment on a single safety culture definition and a set of high-level description/traits (see meeting summary ADAMS Number: ML100700065). Based on this feedback, the NRC has decided to cancel the remaining two workshops tentatively scheduled for April 13-15, 2010, and October 27-28, 2010.

In lieu of the originally planned workshops, for the remainder of calendar year 2010, the NRC now plans to perform more tailored, outreach activities addressing safety culture. This will include the NRC staff and stakeholders continuing a dialogue at NRC and industry-sponsored conferences to obtain a broad spectrum of views regarding the draft policy statement and the products developed from the February 2-4, 2010, workshop. Examples of planned outreach activities will be largely aimed at gatherings of individual industry groups, such as, medical users of licensed, radioactive materials; industrial users of licensed, radioactive materials; fuel facility operators; vendors and suppliers; power and non-power reactors and members of the public. Based on the insights gained from these additional outreach activities a need to revise the products from the February workshop could be identified. Notice of additional meetings/workshops, will be available on the NRC Public Meeting Schedule Web site at http://www.nrc.gov/public-involve/public-meetings/index.cfm at least ten days prior to each meeting/workshop. Additionally, any pertinent information regarding this effort will be made available at the NRC's safety culture Web site http://www.nrc.gov/about-nrc/regulatory/enforcement/safety-culture.html). The NRC may issue another FRN for additional stakeholder input on this initiative if the staff determines that the safety culture definition and traits it has drafted for the final Commission policy statement (due March 2011) differ substantially from the original draft policy statement and/or the products developed at the February 2-4, 2010, workshop.

SUPPLEMENTARY INFORMATION:

Publicly Available Documents: Publicly available documents related to this safety culture initiative can be accessed using the following methods: NRC's Public Document Room (PDR), where the public may examine, and have copied for a fee, publicly available documents. The address is U.S. Nuclear Regulatory Commission Public Document Room, Public File Area 0-1 F21, One White Flint North, 11555 Rockville Pike, Rockville, MD 20852; or NRC's Agency wide Documents Access and Management System (ADAMS), which can be accessed at http://www.nrc.gov/reading-rm/adams.html. From this site, the public can gain entry into ADAMS which provides text and image files of NRC's public documents. If you do not have access to ADAMS or if you encounter problems in accessing the documents located in ADAMS, contact the PDR Reference staff at 1-800-397-4209, or (301) 415-4737 or by e-mail to pdr.resource@nrc.gov.

FOR FURTHER INFORMATION CONTACT: Alex Sapountzis, telephone (301) 415-7822 or by e-mail to Alexander.Sapountzis@nrc.gov; or Maria Schwartz, telephone (301) 415-1888 or by e-mail to Maria.Schwartz@nrc.gov. Both of these individuals can also be contacted by mail at the U.S. Nuclear Regulatory Commission, Office of Enforcement, Concerns Resolution Branch, Mail Stop O-4 A15A, Washington, DC 20555-0001.

Dated at Rockville, Maryland, this 9th day of April 2010.
For the Nuclear Regulatory Commission.
Roy P. Zimmerman,
Director, Office of Enforcement.

[FR Doc. 2010-8746 Filed 4-15-10; 8:45 am]

BILLING CODE 7590-01-P